Title 3—

The President

Proclamation 9381 of December 14, 2015

Bill of Rights Day, 2015

By the President of the United States of America

A Proclamation

The ratification of the Bill of Rights on December 15, 1791, marked one of our country's earliest and most important steps toward ensuring that the ideals enshrined in our founding documents are the birthright of all Americans. Written to guarantee our fledgling Nation would never succumb to the tyranny it fought against, these first 10 Amendments to our Constitution help safeguard the bedrock principles of equality, liberty, and justice. In the years since, America has carried forward the spirit enshrined in the Bill of Rights—recognizing that freedom is a value we must forever work to uphold.

Each generation is tasked with continuing the work of perfecting our Nation. In the 224 years since this codification of our most fundamental freedoms, America has been propelled by the persistent effort of her citizens—people from all walks of life who have accepted the challenge of pushing to expand liberty to all. The same American instinct that sparked our revolution and spurred the creation of the Bill of Rights still inspires us to step forward to defend our founding ideals. It is what inspired a groundbreaking convention in Seneca Falls, drove courageous people to march in Selma, and started a transformative movement for LGBT rights at a bar in New York City. Generations of heroes who believed America is a constant work in progress have advocated and sacrificed to realize that progress and have worked to uphold the belief at the heart of the Bill of Rights: Free men and women have the capacity to shape their own destiny and forge a fairer and more just world for all who follow.

Today, we stand on the shoulders of those who dedicated their lives to upholding the meaning of our founding documents throughout changing times—a mission made possible by the fundamental liberties secured in the Bill of Rights. As we reflect on the strides we have made to lift up an engaged citizenry, we pay tribute to the extraordinary foresight of our Founders who granted the protections that enable us to bring about the change we seek. Let us recommit to continuing our legacy as a Nation that rejects complacency, empowers its citizens to recognize and redress its imperfections, and embraces the struggle of improving our democracy so that all our people are able to make of their lives what they will.

NOW, THEREFORE, I, BARACK OBAMA, President of the United States of America, by virtue of the authority vested in me by the Constitution and the laws of the United States, do hereby proclaim December 15, 2015, as Bill of Rights Day. I call upon the people of the United States to mark this observance with appropriate ceremonies and activities.

IN WITNESS WHEREOF, I have hereunto set my hand this fourteenth day of December, in the year of our Lord two thousand fifteen, and of the Independence of the United States of America the two hundred and fortieth.

[FR Doc. 2015-31976

Filed 12-17-15; 8:45 am]

Billing code 3295-F6-P